DEPARTMENT OF ENERGY

10 CFR Part 431

[Docket No. EERE-2014-BT-STD-0027]

RIN 1904-AD31

Energy Conservation Program for Certain Commercial Industrial Equipment: Conservation Standards for Commercial Pre-Rinse Spray Valves

AGENCY: Office of Energy Efficiency and Renewable Energy, Department of Energy.

ACTION: Extension of public comment period.

SUMMARY: This document announces an extension of the time period for submitting comments, data, and information on the framework document for commercial pre-rinse spray valves, published on September 11, 2014. The comment period is extended to November 12, 2014.

DATES: The comment period for the framework document for commercial pre-rinse spray valves, published on September 11, 2014 (79 FR 54213) is extended to November 12, 2014.

ADDRESSES: Interested persons may submit comments by any of the following methods:

• Federal eRulemaking Portal: www.regulations.gov. Follow the instructions for submitting comments.

• Email: SprayValves20104STD0027@ee.doe.gov. Include EERE-2014-BT-STD-0027 and/or regulation identifier number (RIN) 1904-AD31 in the subject line of the message. All comments should clearly identify the name, address, and, if appropriate, organization of the commenter. Submit electronic comments in WordPerfect, Microsoft Word, portable data format (PDF), or American Standard Code for Information Interchange (ASCII) file format, and avoid the use of special characters or any form of encryption.

• Mail: Ms. Brenda Edwards, U.S. Department of Energy, Building Technologies Office, Mailstop EE-5B, Notice of Availability of Framework Document for Commercial Pre-rinse Spray Valves, EERE-2014-BT-STD-0027 and/or RIN 1904-AD31, 1000 Independence Avenue SW., Washington, DC 20585-0121. Phone: (202) 586-2945. If possible, please submit all items on a compact disc (CD), in which case it is not necessary to include printed copies. (Please note that comments sent by mail are often delayed and may be damaged by mail screening processes.)

• Hand Delivery/Courier: Ms. Brenda Edwards, U.S. Department of Energy, Building Technologies Office, 6th Floor, 950 L'Enfant Plaza SW., Washington, DC 20024. Phone: (202) 586-2945. If possible, please submit all items on a CD, in which case it is not necessary to include printed copies.

All submissions received must include docket number EERE-2014-BT-STD-0027 and/or regulatory identification number (RIN) 1904-AD31.

Docket: The docket is available for review at http://www.regulations.gov, and will include Federal Register notices, framework document, notice of proposed rulemaking, public meeting attendee lists and transcripts, comments, and other supporting documents/materials throughout the rulemaking process. The regulations.gov Web page contains simple instructions on how to access all documents, including public comments, in the docket. The docket can be accessed by searching for docket number EERE-2014-BT-STD-0027 on the regulations.gov Web site. All documents in the docket are listed in the http://www.regulations.gov index. However, not all documents listed in the index may be publicly available, such as information that is exempt from public disclosure.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: jim.raba@ee.doe.gov.

In the Office of General Counsel, contact Ms. Celia Sher, U.S. Department of Energy, Office of the General Counsel, GC-71, 1000 Independence Avenue SW., Washington, DC 20585-0121. Telephone: (202) 287-6122. Email: Celia.Sher@hq.doe.gov.

SUPPLEMENTARY INFORMATION: On September 11, 2014, the U.S. Department of Energy (DOE) published a document in the Federal Register initiating a rulemaking and data collection process to consider establishing energy conservation standards for commercial pre-rinse spray valves. 79 FR 54213. In that document, DOE announced the availability of a framework document. The document provided for the submission of written comments by October 27, 2014, and oral comments were also accepted at a public meeting held on September 30, 2014. The Plumbing Manufacturers International requested, by letter dated October 9, 2014, an extension of the public comment period for the framework document, in view of the breadth, technical nature, and amount of data requested, and to ensure that key domestic and international industry representatives have adequate time to review and provide comments.

DOE has determined that an extension of the public comment period for the framework document is appropriate to allow interested parties additional time to submit comments for DOE's consideration. Thus, DOE is extending the comment period by 15 days. DOE will consider any comments received by November 12, 2014 to be timely submitted.

Issued in Washington, DC, on October 10, 2014.
Kathleen B. Hogan,
Deputy Assistant Secretary for Energy Efficiency, Energy Efficiency and Renewable Energy.

[FR Doc. 2014-24982 Filed 10-20-14; 8:45 am]

BILLING CODE 6450-01-P